DEPARTMENT OF AGRICULTURE

Animal and Plant Health Inspection Service

[Docket No. APHIS-2018-0029]

Notice of Request for Reinstatement of an Information Collection; National Animal Health Monitoring System; Goat 2019 Study

AGENCY: Animal and Plant Health Inspection Service, USDA.

ACTION: Reinstatement of an information collection; comment request.

SUMMARY: In accordance with the Paperwork Reduction Act of 1995, this notice announces the Animal and Plant Health Inspection Service's intention to request the reinstatement of an information collection to conduct the National Animal Health Monitoring System's Goat 2019 Study.

DATES: We will consider all comments that we receive on or before August 13, 2018.

ADDRESSES: You may submit comments by either of the following methods:

• Federal eRulemaking Portal: Go to http://www.regulations.gov/#!docketDetail;D=APHIS-2018-0029.

• Postal Mail/Commercial Delivery: Send your comment to Docket No. APHIS-2018-0029, Regulatory Analysis and Development, PPD, APHIS, Station 3A-03.8, 4700 River Road, Unit 118, Riverdale, MD 20737-1238.

Supporting documents and any comments we receive on this docket may be viewed at http://www.regulations.gov/#!docketDetail;D=APHIS-2018-0029 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Goat 2019 Study, contact Mr. Bill Kelley, Program Analyst, Science, Technology, and Analysis Services, VS, 2150 Centre Avenue, Building B, Fort Collins, CO 80524; (970) 494-7207. For copies of more detailed information on the information collection, contact Ms. Kimberly Hardy, APHIS' Information Collection Coordinator, at (301) 851-2483.

SUPPLEMENTARY INFORMATION:

Title: National Animal Health Monitoring System; Goat 2019 Study.

OMB Control Number: 0579-0354.

Type of Request: Reinstatement of an information collection.

Abstract: Under the Animal Health Protection Act (7 U.S.C. 8301 et seq.), the Secretary of Agriculture is authorized to protect the health of the livestock, poultry, and aquaculture populations in the United States by preventing the introduction and interstate spread of serious diseases and pests of livestock and for eradicating such diseases from the United States when feasible. This authority has been delegated to the Animal and Plant Health Inspection Service (APHIS).

In connection with this mission, APHIS operates the National Animal Health Monitoring System (NAHMS), which collects, on a national basis, statistically valid and scientifically sound data on the prevalence and economic importance of livestock, poultry, and aquaculture disease risk factors.

NAHMS' studies have evolved into a collaborative industry and government initiative to help determine the most effective means of preventing and controlling diseases of livestock. APHIS is the only agency responsible for collecting data on livestock health. Participation in any NAHMS study is voluntary, and all data are confidential.

APHIS plans to conduct the Goat 2019 Study as part of an ongoing series of NAHMS studies on the U.S. livestock population. The purpose of the study is to collect information to describe changes in animal health, nutrition, and management practices in the U.S. goat industry from 2009-2019; describe practices producers use to control internal parasites and reduce anthelmintic resistance; describe antimicrobial stewardship on goat operations and provide information on the prevalence of enteric pathogens and antimicrobial resistance patterns; describe management practices associated with, and producer-reported occurrence of, economically important goat diseases; and provide a serologic bank to meet the future research needs of the goat industry.

The study will consist of two phases. In Phase I, a National Agricultural Statistics Service (NASS) enumerator will contact and conduct interviews with goat producers from 26 States who have 5 or more goats. These respondents will be asked to sign a consent form allowing NASS to present their names to APHIS-designated data collectors for further consideration in the study. In Phase II, which we consider the APHIS phase, the respondents will complete the producer agreement and up to three on-farm questionnaires. In addition, biologic sampling will be available to selected participants that complete the initial visit questionnaire.

The information collected through the Goat 2019 Study will be analyzed and organized into descriptive reports. Several information sheets will be derived from these reports and disseminated by APHIS to producers, stakeholders, academia, veterinarians, and other interested parties. The collected data will be used to establish national and regional production measures for producer, veterinary, and industry references; predict or detect national and regional trends in disease emergence and movement; address emerging issues; examine the economic impact of health management practices; provide estimates of both outcome (disease or other parameters) and exposure (risks and components) variables that can be used in analytic studies in the future by APHIS; provide input into the design of surveillance systems for specific diseases; and provide parameters for animal disease spread models.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.51 hours per response.

Respondents: Goat producers from 26 States who have 5 or more goats.

Estimated annual number of respondents: 4,770.

Estimated annual number of responses per respondent: 4.

Estimated annual number of responses: 17,668.

Estimated total annual burden on respondents: 8,947 hours. (Due to averaging, the total annual burden hours may not equal the product of the annual number of responses multiplied by the reporting burden per response.)

All responses to this notice will be summarized and included in the request for OMB approval. All comments will also become a matter of public record.

Done in Washington, DC, this 6th day of June 2018.
Kevin Shea,
Administrator, Animal and Plant Health Inspection Service.

[FR Doc. 2018-12589 Filed 6-11-18; 8:45 am]

BILLING CODE 3410-34-P